FEDERAL ACCOUNTING STANDARDS ADVISORY BOARD

Notice of New Exposure Draft Definition and Recognition of Elements of Accrual-Basis Financial Statements

Board Action: Pursuant to 31 U.S.C. 3511(d), the Federal Advisory Committee Act (Pub. L. 92-463), as amended, and the FASAB Rules Of Procedure, as amended in April, 2004, notice is hereby given that the Federal Accounting Standards Advisory Board (FASAB) has issued an exposure draft, Definition and Recognition of Elements of Accural-Basis Financial Statements.

The Exposure Draft poses questions for respondents on issues such as the essential characteristics of assets and liabilities, deriving the definition of revenue and expense from the definitions of assets and liabilities, the government's ability to change laws in the future, uncertainty related to existence and measurement, and recognition criteria.

The Exposure Draft is available on the FASAB home page http://www.fasab.gov/exposure.html. Copies can be obtained by contacting FASAB at (202) 512-7350. Respondents are encouraged to comment on any part of the exposure draft. Written comments are requested by August 5th, 2006, and should be sent to: Wendy M. Comes, Executive Director, Federal Accounting Standards Advisory Board, 441 G Street, NW., Suite 6814, Mail Stop 6K17V, Washington, DC 20548.

For Further Information Contact: Wendy Comes, Executive Director, 441 G Street, NW., Washington, DC 20548, or call (202 512-7350.

Authority: Federal Advisory Committee Act, Public Law 92-463.

Dated: June 14, 2006.
Charles Jackson,
Federal Register Liaison Officer.

[FR Doc. 06-5495 Filed 6-15-05; 8:45 am]

BILLING CODE 1610-01-M